DEPARTMENT OF LABOR

Employment and Training Administration

[Docket Number: ETA-2021-0001]

Request for Public Comments: Exploration of a Multi-Program, Integrated Case Management System

AGENCY: Employment and Training Administration (ETA), Department of Labor.

ACTION: Request for comments.

SUMMARY: The U.S. Department of Labor's Employment and Training Administration (ETA) is seeking public comment on customer-centric solutions to assist States in the design and deployment of affordable, flexible technology systems to improve workforce development and reemployment service delivery at the local level. In collaboration with our Workforce Innovation and Opportunity Act (WIOA) partner agencies, we will use this information to inform the Department's deliberations on the implementation of WIOA and technical assistance that we provide to States to help them align technology and data systems across one-stop partner programs with the customer experience at the forefront of the design.

DATES: Comments must be received by July 23, 2021.

ADDRESSES: You may submit comments via the internet. Please visit the Federal eRulemaking portal at http://www.regulations.gov. Use the “Search” function to find docket number ETA-2021-0001. The system will issue a tracking number to confirm your submission. You will not be able to view your comment immediately because we must post each comment manually. Caution: In your comments, you should be careful to include only the information that you wish to make publicly available. Please be aware that we will not redact any information in your submission, and you should not include personally-identifiable information such as your personal address or telephone number. If, however, you would like to separately share your email address with ETA for potential further discussion and a possible follow up interview on your perspectives, you can send it directly to IntegratedCaseMgmt@dol.gov.

FOR FURTHER INFORMATION CONTACT: Jeff Fitzgerald, Enterprise Program Advisor, Office of Workforce Investment, USDOL/Employment and Training Administration, IntegratedCaseMgmt@dol.gov, 202-693-9974, or visit https://www.dol.gov/dol/contact/contactphonecallcenter.htm (TTY) for information about this notice.

SUPPLEMENTARY INFORMATION:

Background

The Workforce Innovation and Opportunity Act (WIOA) emphasizes the need for states to develop strategies to align information technology (IT) and data systems across one-stop partner programs to enhance service delivery to customers and improve efficiencies in reporting on performance accountability measures. Such programmatic elements may include common intake and assessment, data collection, case management information, performance accountability measurement, and reporting processes, all to improve coordination of services across one-stop partner programs. Beyond these functions, the U.S. Department of Labor's Employment and Training Administration (ETA) also seeks to enhance the consistency of service responsiveness to customers' training and reemployment needs nationally, with a near term focus on programs that have served as a temporary safety net in the pandemic and now have the highest reemployment demands. With that tenet in mind, ETA plans to explore options to assist states in the design and deployment of affordable, flexible IT systems to improve service delivery at the local level. While ETA's highest priority is the strengthening of unemployment insurance (UI) technology systems nationally, there is a natural connection between unemployment and reemployment services. Therefore, we need to look ahead to the broad advancement of IT reemployment infrastructures, inclusive of supportive case management systems, particularly ones that support people who needed safety net programs in the pandemic, and during previous recessions. This is why ETA is seeking comment from stakeholders and the public on how best to support customer-centric and outcome driven, holistic case management systems for workforce development, income maintenance programs, and, where possible, other partner programs that also support employment and career advancement including but not limited to those that might be delivered in an American Job Center (AJC). This request for comments will complement insights being gathered through a human-centered Design (HCD) exploration process, focused on understanding the service delivery challenges to AJC customers and the technology needs of those that work with those customers most closely—AJC partner program case workers.

Purpose

The envisioned design approach aims to put jobseeker customers at the forefront of our efforts to provide jobseekers with employment, training, education, income support, and wrap-around services. Nationally there has been progress in the alignment of programs that support employment, reemployment, and career advancement within the programmatic operations, human capital, and strategy development spheres. However, despite serious efforts from States and local communities, many of the IT systems associated with programs remain unaligned. Common challenges in the advancement and alignment of the relevant technology systems include incompatible legacy data systems, inherent political and technical risks with the development of new solutions, and challenges in financing viable options.

As a result, there can be inconsistency within and across states in how people seeking help with employment are being served. Depending on the state, the absence of comprehensive IT solutions across programs or the challenges with existing solutions at times results in poor reemployment outcomes within programs that have the highest demands for these services. When programs or staff aim to provide all the services and supports a customer needs to become employed, but IT systems are not aligned, the results can create cross-program inefficiencies, poor consideration of the totality of the customer's needs across partner programs, potential duplications, and ineffective use of data.

There is an opportunity to improve the quality of services nationally, and the supporting IT infrastructure, by learning what is and what is not working and using that information to enlighten what may be possible from a federal-state partnership. To best inform next steps, and any potential solicitations, incentives or supports for customer-centric and outcome-driven, holistic case management IT solutions across programs, this Request for Information is seeking feedback from the public and, in particular, local, state, and federal program practitioners and IT specialists across relevant programs. The public input in response to this notice will further an understanding of the barriers to developing IT solutions, illuminate IT development successes and lessons learned in this arena, and refine the systems' capabilities and functionality that would drive the greatest value for reemployment outcomes for customers. This, in turn, may point to potential new system designs to improve IT partnerships.

Request for Public Comments

ETA is soliciting input from its stakeholders and the public on any or all of the following categories of information and questions. Response to this request for comments is voluntary. Respondents do not need to address every category or question and may elect to focus their comments on those categories and questions that relate to their expertise or perspective. To the extent possible, please clearly indicate the question(s) addressed in your response. We ask that each respondent include the name and street address of his or her institution or affiliation, if any, and the name, title, email address, and telephone number of a contact person for his or her institution or affiliation, if any.

Questions

As noted above, this Request seeks information concerning any or all of the following categories of information and questions, if applicable:

Operations Process Analysis

1. Information related to the largest operational obstacles that stakeholders encounter when helping jobseekers who might need the supports of more than one program.

a. In particular, what are the largest operational obstacles faced by these stakeholders and jobseekers?

b. What, if anything, has limited coordination and service delivery across programs?

c. In what ways do you believe that technology can best help to alleviate those obstacles?

Technology Implementations

2. Information on areas in which states, territories, or local areas have taken steps to align technology and data systems across programs. In particular, ETA is interested in:

a. How many or which partner programs the efforts have encompassed, among any DOL-funded programs, AJC partner programs, or other public benefit or career advancement programs;

b. Whether the efforts have included comprehensive case management systems integration;

c. Whether the efforts have included agile development solutions that create interoperability among existing systems and leverage modularity, application programming interfaces (APIs), open source technologies and micro services architecture.

d. Where efforts have included full integration with Unemployment Insurance systems;

e. Where human-centered design was integrated into the technology solution;

f. Where system-wide analytic capabilities have been realized;

g. Whether and in what form barriers have prevented success; and

h. Any lessons learned in the process.

3. If full integration of a case management solution across all employment, income maintenance, and career advancement-related programs could not be realized to start, what subset of programs would it make the most sense to align?

Functionality (System Level)

4. In contemplating IT solutions, what functionality and flexibilities would be important to include and why?

5. What functionality would be most important to include to allow for the IT solution to continue to expand and add value to program partners and customers?

Capabilities (User Level Requirements)

6. At an individual user level, what system capabilities would provide a superior customer-centric, outcome driven case management experience as compared to current experiences?

7. What capabilities would generate the most value for program partners and customers?

8. While keeping the burden on the beneficiary as low as possible, what data would an ideal system collect? Particularly data that would increase our understanding of the impacts of such a system and underlying benefits on under-resourced communities?

Other

9. Preliminary state feedback suggests that an integrated case management solution, as an option for states to leverage and focus across program partners as they see fit, would add the most value in terms of addressing existing technology gaps as well as promote better outcomes for customers. ETA seeks feedback on this initial analysis, including:

a. From your perspective, would an integrated case management solution add value to your program operations, and if so how?

b. What are the pros and cons of a model where a Federal agency or agencies support(s) building a system with a consortium of states, and makes it available to others via open source?

c. What are the pros and cons of a model where a Federal agency or agencies coordinate(s) a system framework and states or local areas can operate modules within that larger framework?

d. Whether there are other IT gaps or solutions, which would potentially generate more value across programs, for which ETA should analyze solution options?

10. The total cost estimate that a state/territory currently spends to maintain its case management system annually.

a. Is that annual cost for a single module or for an integrated systems across multiple partner programs?

11. Any other general comments not covered above related to comprehensive IT solutions across partner programs.

Suzan G. LeVine,
Principal Deputy Assistant Secretary for Employment and Training, Labor.

[FR Doc. 2021-10867 Filed 5-21-21; 8:45 am]

BILLING CODE 4510-FN-P